FEDERAL COMMUNICATIONS COMMISSION

[FR ID 320986]

Radio Broadcasting Services; AM or FM Proposals To Change the Community of License

AGENCY: Federal Communications Commission.

ACTION: Notice.

DATES: The agency must receive comments on or before February 13, 2026.

ADDRESSES: Federal Communications Commission, 45 L Street NE, Washington, DC 20554.

FOR FURTHER INFORMATION CONTACT: Rolanda F. Smith, 202-418-2054, Rolanda-Faye.Smith@fcc.gov.

SUPPLEMENTARY INFORMATION: The Media Bureau shall provide notice in the Federal Register that an application to modify an AM or FM station's community of license has been filed. See 71 FR 76208, 76211 (published December 20, 2006). The following applicants filed AM or FM proposals to change the community of license: FIRST BAPTIST CHURCH, INC., WKQK(AM), FAC ID NO. 55005, FROM: COCOA BEACH, FL, TO: MELBOURNE BEACH, FL, FILE NO. 0000274095; FOUR RIVERS COMMUNITY BROADCASTING CORPORATION, WRKY(AM), FAC ID NO. 25870, FROM: LANCASTER, PA, TO: LITITZ, PA, FILE NO. 0000281584; RADIOJONES, LLC, WXRS(AM), FAC ID NO. 36203, FROM: SWAINSBORO, GA, TO: MELDRIM, GA, FILE NO. 0000268855; EDUCATIONAL MEDIA FOUNDATION, KAZK(FM), FAC ID NO. 176305, FROM: WILLCOX, AZ, TO: SAN MANUEL, AZ, FILE NO. 0000267724; ALEXANDRA COMMUNICATIONS, INC., KUBQ(FM), FAC ID NO. 24796, FROM: LA GRANDE, OR, TO: LOSTINE, OR, FILE NO. 0000281888; ESTRELLA BROADCASTING, LLC, KXQX(FM), FAC ID NO. 762488, FROM: TUSAYAN, AZ, TO: BIG WATER, UT, FILE NO. 0000280780; SOUTHWEST BROADCASTING, LLC, KXUT(FM), FAC ID NO. 36340, FROM: PAGE, AZ, TO: ORDERVILLE, UT, FILE NO. 0000280777; LAKE HARTWELL RADIO, INC., WEGG(FM), FAC ID NO. 166080, FROM: BOWMAN, GA, TO: ROYSTON, GA, FILE NO. 0000280812; MIGHTY VOICE BROADCASTING, WNJD(FM), FAC ID NO. 37475, FROM: CAPE MAY, NJ, TO: HARTLY, DE, FILE NO. 0000278526; IHM LICENSES, LLC, WROV-FM, FAC ID NO. 37747, FROM: MARTINSVILLE, VA, TO: NEW CASTLE, VA, FILE NO. 0000280438; UNIVERSITY OF MASSACHUSETTS, WUMT(FM), FAC ID NO. 122278, FROM: MARSHFIELD, MA, TO: KINGSTON, MA, FILE NO. 0000280960; AND 3 DAUGHTERS MEDIA, INC., WMNA-FM, FAC ID NO. 9985, FROM: HALIFAX, VA, TO: BROOKNEAL, VA, FILE NO. 0000281963. The full text of these applications is available electronically via Licensing and Management System (LMS), https://apps2int.fcc.gov/dataentry/public/tv/publicAppSearch.html.

Federal Communications Commission.
Nazifa Sawez,
Assistant Chief, Audio Division, Media Bureau.

[FR Doc. 2025-22818 Filed 12-12-25; 8:45 am]

BILLING CODE 6712-01-P